ENVIRONMENTAL PROTECTION AGENCY

[EPA—New England Region I—EPA-R01-OW-2008-0213; FRL-8574-6]

Massachusetts Marine Sanitation Device Standard—Receipt of Petition

AGENCY: Environmental Protection Agency (EPA).

ACTION: Notice—receipt of petition.

SUMMARY: Notice is hereby given that a petition has been received from the Commonwealth of Massachusetts requesting a determination by the Regional Administrator, U.S. Environmental Protection Agency, that adequate facilities for the safe and sanitary removal and treatment of sewage from all vessels are reasonably available for all Boston Harbor waters of the Inner and Outer Harbor and will extend into Massachusetts Bay to encompass all of the islands in the Boston Harbor Islands National Park Area, including the Brewster Islands and the Graves. It will include sections of the Chelsea, Mystic, Charles, Neponset, Weymouth Fore, Weymouth Back and Weir Rivers, all of which feed into the harbor. The waters of the proposed NDA fall within the jurisdictions of Boston, Braintree, Cambridge, Chelsea, Everett, Hingham, Hull, Milton, Newton, Quincy, Watertown, Weymouth, and Winthrop.

DATES: July 7, 2008.

ADDRESSES: Submit your comments, identified by Docket ID No. EPA-R01-OW-2008-0213 by one of the following methods: http://www.regulations.gov, Follow the on-line instructions for submitting comments.

E-mail: rodney.ann@epa.gov.

Fax: (617) 918-0538.

Mail and hand delivery: U.S. Environmental Protection Agency—New England Region, One Congress Street, Suite 1100, COP, Boston, MA 02114-2023. Deliveries are only accepted during the Regional Office's normal hours of operation (8 a.m.-5 p.m., Monday through Friday, excluding legal holidays), and special arrangements should be made for deliveries of boxed information.

Instructions: Direct your comments to Docket ID No. EPA-R01-OW-2008-0213. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copy-righted material, will be publicly available only in hard copy. Publicly available docket materials are available either electronically in http://www.regulations.gov or in hard copy at the U.S. Environmental Protection Agency—New England Region, One Congress Street, Suite 1100, COP, Boston, MA 02114-2023. Such deliveries are only accepted during the Regional Office's normal hours of operation, and special arrangements should be made for deliveries of boxed information. The Regional Office is open from 8 a.m.-5 p.m., Monday through Friday, excluding legal holidays. The telephone number is (617) 918-1538.

FOR FURTHER INFORMATION CONTACT: Ann Rodney, U.S. Environmental Protection Agency—New England Region, One Congress Street, Suite 1100, COP, Boston, MA 02114-2023. Telephone: (617) 918-1538, Fax number: (617) 918-0538; e-mail address: rodney.ann@epa.gov.

SUPPLEMENTARY INFORMATION: Notice is hereby given that a petition has been received from the Commonwealth of Massachusetts requesting a determination by the Regional Administrator, U.S. Environmental Protection Agency, pursuant to section 312(f)(3) of Public Law 92-500 as amended by Public Law 95-217 and Public Law 100-4, that adequate facilities for the safe and sanitary removal and treatment of sewage from all vessels are reasonably available for the area within the following boundaries:

The seaward boundary of the NDA is defined by municipal boundaries and, where possible, aids to navigation.

Waterbody/General area | Latitude | Longitude
Landside Town boundary between Revere and Winthrop | 42° 23′ 30″ N | 70° 58′ 50″ W
Offshore town boundary between Nahant, Revere, and Winthrop | 42° 24′ 28″ N | 70° 57′ 33″ W
Offshore town boundary between Nahant and Winthrop | 42° 23′ 13″ N | 70° 55′ 28″ W
Offshore town boundary between Nahant and Winthrop | 42° 23′ 04″ N | 70° 54′ 04″ W
Offshore town boundary between Nahant and Winthrop | 42° 23′ 32″ N | 70° 51′ 28″ W
Aid to Navigation RW “BG” Mo (A), 1.6nm NNE of the Graves | 42° 23′ 27″ N | 70° 51′ 30″ W
Aid to Navigation G “5” Fl G 4s WHISTLE, 0.8nm NE of the Graves | 42° 22′ 34″ N | 70° 51′ 29″ W
Aid to Navigation R “2” Fl R 4s BELL, Three & One-Half Fathom Ledge | 42° 21′ 04″ N | 70° 50′ 31″ W
Aid to Navigation G “1” Q G WHISTLE, Thieves Ledge | 42° 19′ 32″ N | 70° 49′ 51″ W
Offshore town boundary between Hull and Cohasset | 42° 18′ 34″ N | 70° 47′ 25″ W
Landside boundary between Hull and Cohasset | 42° 15′ 54″ N | 70° 49′ 34″ W

The landward boundaries of the proposed NDA are:

Waterbody/General area | Latitude | Longitude
The Saratoga Street bridge between Winthrop and Boston | 42° 22′ 58″ N | 70° 59′ 40″ W
The railway bridge on the Chelsea River between Chelsea and Revere | 42° 24′ 06″ N | 71° 00′ 40″ W
The Amelia Earhart Dam on the Mystic River | 42° 23′ 42″ N | 71° 04′ 30″ W
The Watertown Dam on the Charles River | 42° 21′ 55″ N | 71° 11′ 22″ W
The Baker Dam on the Neponset River | 42° 16′ 15″ N | 71° 04′ 08″ W
The Shaw Street bridge on the Weymouth Fore River | 42° 13′ 20″ N | 71° 58′ 25″ W
Where Bridge Street crosses the Weymouth Back River between Weymouth and Hingham | 42° 14′ 50″ N | 70° 55′ 52″ W
Where Nantasket Avenue crosses the Weir River between Hingham and Hull | 42° 15′ 37″ N | 70° 50′ 41″ W

The proposed NDA boundary includes the municipal waters of Boston, Braintree, Cambridge, Chelsea, Everett, Hingham, Hull, Milton, Newton, Quincy, Watertown, Weymouth, and Winthrop.

Massachusetts has provided documentation indicating that the total vessel population is estimated to be 8,720 in the proposed area. It is estimated that 4,047 of the total vessel population may have a Marine Sanitation Device (MSD) of some type. There are marinas, yacht clubs and public landings/piers in the proposed area with a combination of mooring fields and dock space for the recreational and commercial vessels.

Massachusetts has certified that there are 35 pumpout facilities within the proposed area available to the boating community and four additional facilities pending. The majority of facilities are connected directly into the local wastewater treatment system. A list of the facilities, phone numbers, locations, and hours of operation is provided at the end of this petition.

Boston Harbor is rich in natural resources and includes the Boston Harbor Islands National Park Area, four state-recognized Areas of Critical Environmental Concern (Rumney Marshes, Neponset River Estuary, Weir River Estuary, and Weymouth Back River), and numerous local parks and beaches. Boston Harbor has eelgrass beds, salt marshes, estuaries and mud flats that provide suitable habitat for blue mussels, razor clams, soft shell clams, lobsters, coastal and pelagic birds (including 5 listed species), striped bass, smelt, alewives and herring. The area supports over 300 migratory bird species. In addition to the natural resources, the area has regional and national attractions such as the Children's Museum, New England Aquarium, Faneuil Hall Marketplace, the USS Constitution, Navy Yard Historical Park, and many other attractions that bring an estimated 16 million visitors per year.

Pumpout Facilities Within Proposed No Discharge Area
Name | Location | Contact information | Hours | Mean low water depth (ft)
Boston Harbor Shipyard and Marina | Boston | (617) 561-1400, VHF 9 | 7 a.m.-8 p.m., On call | 25 ft. N/A.
The Marina at Rowes Wharf | Boston | (617) 439-3131, VHF 9 | 8 a.m.-4 p.m., May 1-Oct. 31 | 10 ft.
Boston Waterboat Marina | Boston | (617) 523-1027, VHF 9 | 7 a.m.-7 p.m., Call ahead | 5 ft to 25 ft. N/A.
Boston Yacht Haven | Boston | (617) 367-5050, VHF 9 | 8 a.m.-7 p.m. | 10 ft.
Black Falcon Pier | Boston | (617) 946-4417 | 9 a.m.-5 p.m. | 35 ft.
Boston Harbor Cruises ** | Boston | (617) 227-4321 | 6:30 a.m.-8:30 p.m. (weekdays), 10 a.m.-6:30 p.m. (weekends) | 22 ft.
Boston Towing & Transportation | Boston | (617) 567-9100 | 24/7 | N/A.
City of Boston * | Boston | TBD | TBD | N/A.
Berth 10 * | Boston | (617) 918-6203 | TBD |
Mass Bays Lines ** | Boston | (617) 542-8000.
Charles River Yacht Club | Cambridge | (617) 354-8881, VHF 9 | 8 a.m.-8 p.m. | N/A.
Charles Riverboat Company ** | Cambridge | (617) 621-3001.
Constitution Marina | Charlestown | (617) 241-9818, VHF 69 | 9 a.m.-8 p.m. (summer), 9 a.m.-5 p.m. (winter) | 30 ft. N/A.
Mystic Marine | Charlestown | (617) 293-6247, VHF 72 | 7 a.m.-7 p.m. (Mon-Fri) | 35 ft. 35 ft.
Shipyard Quarters Marina | Charlestown | (617) 242-2020, VHF 7, 9, 16 | 8 a.m.-7 p.m. | 20 ft. N/A.
Charlestown Pier 4 | Charlestown | (617) 918-6231 | Appointment Only | 30 ft.
Charlestown Pier 3 * | Charlestown | (617) 918-6201 | TBD.
Constellation Tug ** | Charlestown | (617) 561-0223 | 24/7 | N/A.
Marine at Admirals Hill | Chelsea | (617) 889-4002, VHF 9, 10 | 8 a.m.-5 p.m. | 6 ft.
Dorchester Yacht Club | Dorchester | (617) 436-1002, VHF 9 | 8 a.m.-6 p.m. | 7 ft.
Port Norfolk Yacht Club | Dorchester | (617) 822-3333, VHF 9, 11 | 24/7, self-service | 7.5 ft.
Town of Hingham | Hingham | (781) 741-1450, VHF 12, 16 | 3 p.m.-7 p.m. (Tue, Thurs, Sat & Sun) | N/A.
Town of Hull | Hull | (781) 925-0316, VHF 9, 16 | 8 a.m.-4 p.m. | N/A. *TBD.
Quincy Bay | Quincy | (617) 908-9757, VHF 9 | 8 a.m.-4 p.m. (weekend), High-tide (weekday) | N/A.
Bay Pointe Marina | Quincy | (617) 471-1777, VHF 9 | Call ahead | 8 ft.
Captain's Cove Marina | Quincy | (617) 328-3331, VHF 69 | 24/7 | 6 ft.
Marina Bay on Boston Harbor | Quincy | (617) 847-1800, VHF 10 | 7:30 a.m.-8 p.m. | N/A.
Town River Yacht Club | Quincy | (617) 471-2716, VHF 71 | Call ahead | 35 ft.
Harbor Express ** | Quincy | (617) 542-8000.
Watertown Yacht Club | Watertown | (617) 924-9848 | 8 a.m.-4 p.m. (Tue-Thur, Sat), 11 a.m.-7 p.m. (Fri) | 6 ft.
Wessagussett Yacht Club | Weymouth | VHF 71 | 6 a.m.-8 p.m. (Mon-Fri), 9 a.m.-9 p.m. (Sat-Sun) | 8 ft.
Town of Winthrop | Winthrop | (617) 839-4000, VHF 9, 16 | 10 a.m.-8 p.m. | N/A. 8 to 30 ft.
* = Pending facilities.
** = Private commercial facilities.

Dated: May 23, 2008.
Robert W. Varney,
Regional Administrator, New England Region.

[FR Doc. E8-12224 Filed 6-5-08; 8:45 am]

BILLING CODE 6560-50-P